DEPARTMENT OF LABOR

Office of the Secretary

Submission for OMB Review; Comment Request

January 31, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King at (202) 693-4129 or E-Mail to King-Darrin@dol.gov.

Comments should be sent to Office of Information and Regulatory Affairs, Attn: OMB Desk Officer for OSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Occupational Safety and Health Administration (OSHA).

Title: Lead in General Industry.

OMB Number: 1218-0092.

Affected Public: Business or other for-profit; Federal Government; and State, Local or Tribal Government.

Frequency: On occasion.

Number of Respondents: 50,031.

Number of Annual Responses: 4,990,031.

Estimated Time Per Response: Varies from 5 minutes to maintain records to 1.5 hours for employee training or medical examination.

Total Burden Hours: 1,265,938.

Total Annualized Capital/Startup Costs: $0.

Total Annual Costs (operating/maintaining systems or purchasing services): $137,352.496.

Description: 29 CFR 1910.1025 requires employers to monitor employee exposure to lead, to provide medical surveillance, to train employees about the hazards of lead, and to establish and maintain accurate records of employee exposure to lead. These records are used by employers, employees, physicians, and the Government to ensure that employees are not harmed by occupational exposure to lead.

Type of Review: Extension of a currently approved collection.

Agency: Occupational Safety and Health Administration (OSHA).

Title: Asbestos in General Industry.

OMB Number: 1218-0133.

Affected Public: Business or other for-profit; Federal Government; and State, Local or Tribal Government.

Frequency: On occasion.

Number of Respondents: 233.

Number of Annual Responses: 65,893.

Estimated Time Per Response: Varies from 5 minutes to maintain records to 1.5 hours for employee training or medical evaluation.

Total Burden Hours: 23,849.

Total Annualized Capital/Startup Costs: $0.

Total Annual Costs (operating/maintaining systems or purchasing services): $1,625,143.

Description: 29 CFR 1910.1001 requires employers to monitor employee exposure to asbestos, to provide medical surveillance, to train employees about the hazards of asbestos, and to establish and maintain accurate records of employee exposure to asbestos. These records are used by employers, employees, physicians, and the Government to ensure that employees are not harmed by occupational exposure to asbestos.

Maureen Hill,
Acting Departmental Clearance Officer.

[FR Doc. 01-3071 Filed 2-5-01; 8:45 am]

BILLING CODE 4510-26-M